DEPARTMENT OF TRANSPORTATION

Office of the Secretary

Aviation Proceedings, Agreements Filed the Week Ending June 10, 2005

The following Agreements were filed with the Department of Transportation under the provisions of 49 U.S.C. Sections 412 and 414. Answers may be filed within 21 days after the filing of the application.

Docket Number OST-2005-21465.

Date Filed June 7, 2005.

Parties Members of the International Air Transport Association.

Subject 27th IATA CSC held in Lisbon, Portugal on 10 March, 2005. CSC/27/Meet/007/2005 dated 2 June, 2005, Finally Adopted Resolution 600a and Recommended Practice 1606. Intended effective date: 1 October 2005.

Docket Number OST-2005-21466.

Date Filed June 7, 2005.

Parties Members of the International Air Transport Association.

Subject CAC/33/Meet/006/05 dated 1 June, 2005. Normal Resolutions 803/833/833a/851/853/871 (Minutes relevant to the Resolutions are included in CAC/33/Meet/05/05 dated 1 June 2005). Intended effective date: 1 October 2005.

Docket Number OST-2005-21503.

Date Filed June 10, 2005.

Parties Members of the International Air Transport Association.

Subject PTC31 SOUTH 0177 dated 6 June 2005. TC31 South Pacific Resolutions except between French Polynesia, New Caledonia, New Zealand and USA r1-r35. PTC31 SOUTH 0178 dated 6 June 2005. TC31 South Pacific Resolutions between French Polynesia, New Caledonia, New Zealand and USA r36-r51. Minutes: PTC31 SOUTH 0179 dated 9 June 2005. Tables: PTC31 SOUTH Fares 0040 dated 6 June 2005. Intended effective date: 1 October 2005.

Docket Number OST-2005-21516.

Date Filed June 10, 2005.

Parties Members of the International Air Transport Association.

Subject MAIL VOTE NUMBER S 082. RP 1720a-013 Digit Numbering System for Traffic. Documents Form Code for Virtual Multiple Purpose Document (vMPD). Intended effective date: 1 July 2005.

Renee V. Wright,
Acting Program Manager, Docket Operations, Alternate Federal Register Liaison.

[FR Doc. 05-12430 Filed 6-22-05; 8:45 am]

BILLING CODE 4910-62-P